DEPARTMENT OF HEALTH AND HUMAN SERVICES

National Institutes of Health

National Institute of Neurological Disorders and Stroke; Notice of Meeting

Pursuant to section 10(a) of the Federal Advisory Committee Act, as amended (5 U.S.C. App.), notice is hereby given of a conference call of the Interagency Pain Research Coordinating Committee (IPRCC).

The IPRCC full Committee will be having a conference call on Thursday, June 28, 2012. This teleconference will be focused predominantly on a discussion of the proposed list of pain research topics that will be used for the portfolio analysis of Federally-funded pain research. This conference call will be accessible to the public through a call-in number and access code.

Name of Committee: Interagency Pain Research Coordinating Committee (IPRCC).

Type of meeting: Open Meeting.

Date: June 28, 2012.

Time: 1:00 p.m. to 2:30 p.m. *Eastern Time*—Approximate end time.

Agenda: To discuss the proposed list of pain research topics that will be used for the portfolio analysis of Federally-funded pain research.

Place: No in-person meeting; conference call only.

Conference Call: Dial: 800-369-2109, Access Code: 5033271.

Cost: The conference call is free and open to the public.

Contact Person: Dr. Paul Scott, Director, Office of Science Policy and Planning, National Institute of Neurological Disorders and Stroke, NIH, 31 Center Drive, Room 8A03, Bethesda, MD 20892, (301) 496-9271, Email: IPRCC PublicInquries@mail.nih.gov.

Please Note: The conference call will be accessible to the public through a call-in number and access code. Members of the public who participate using the conference call phone number will be able to listen to the meeting but will not be heard. If you experience any technical problems with the conference call, please call Customer Service at 866-900-1011.

Individuals who participate by using this electronic service and who need special assistance or other reasonable accommodations should submit a request to the Contact Person listed on this notice at least 7 days prior to the meeting.

This meeting is being published less than 15 days prior to the meeting. This timing allows the IPRCC to get feedback from the IPRCC Working Group, who meets the previous week, while still providing time for the recommendations from the teleconference to be implemented before the October 22, 2012, meeting.

Information about the IPRCC is available on the Web site: www.iprcc.nih.gov.

Dated: June 11, 2012.
Jennifer S. Spaeth,
Director, Office of Federal Advisory Committee Policy .

[FR Doc. 2012-14932 Filed 6-18-12; 8:45 am]

BILLING CODE 4140-01-P